SMALL BUSINESS ADMINISTRATION

[Disaster Declaration #15656; Colorado Disaster Number CO-00105 Declaration of Economic Injury]

Administrative Declaration of an Economic Injury Disaster for the State of Colorado

AGENCY: U.S. Small Business Administration.

ACTION: Notice.

SUMMARY: This is a notice of an Economic Injury Disaster Loan (EIDL) declaration for the State of Colorado, dated 08/24/2018.

Incident: 416 Wildfire.

Incident Period: 06/01/2018 through 07/31/2018.

DATES: Issued on 08/24/2018.

Economic Injury (EIDL) Loan Application Deadline Date: 05/24/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: La Plata, San Juan.

Contiguous Counties:

Colorado: Archuleta, Dolores, Hinsdale, Montezuma, Ouray, San Miguel.

New Mexico: San Juan.

The Interest Rates are:

| Percent
Businesses and Small Agricultural Cooperatives without Credit Available Elsewhere | 3.610
Non-Profit Organizations without Credit Available Elsewhere | 2.500

The number assigned to this disaster for economic injury is 156560.

The States which received an EIDL Declaration # are Colorado, New Mexico.

(Catalog of Federal Domestic Assistance Number 59008)

Dated: August 24, 2018.
Linda E. McMahon,
Administrator.

[FR Doc. 2018-19111 Filed 8-31-18; 8:45 am]

BILLING CODE 8025-01-P